DEPARTMENT OF HEALTH AND HUMAN SERVICES

Administration for Community Living

Agency Information Collection Activities; Proposed Collection; Public Comment Request; Extension of a Currently Approved Information Collection (ICR-REV); Centers for Independent Living Annual Performance Report (CILPPR); Correction

AGENCY: Administration for Community Living, HHS.

ACTION: Notice of correction.

SUMMARY: The Administration for Community Living published a proposed collection of information document in the Federal Register on February 23, 2017. (82 FR 11471 and 11472) The Web page link where the proposed revision to an existing data collection related to the Centers for Independent Living Program Performance Report (CIL PPR) could be found is no longer functional as of Thursday May 4, 2017, due to an update of the ACL.gov Web site.

FOR FURTHER INFORMATION CONTACT: Corinna Styles at 202-795-7446.

SUPPLEMENTARY INFORMATION:

Correction

For the remainder of the public comment period through May 5, 2017, the proposed revision to the Centers for Independent Living Program Performance Report (CIL PPR) can be found at: https://acl.gov/NewsRoom/Index.aspx.

Dated: April 28, 2017.
Daniel P. Berger,
Acting Administrator and Assistant Secretary for Aging.

[FR Doc. 2017-09021 Filed 5-3-17; 8:45 am]

BILLING CODE 4154-01-P